DEPARTMENT OF COMMERCE

National Oceanic and Atmospheric Administration

Agency Information Collection Activities; Submission to the Office of Management and Budget for Review and Approval; Comment Request; Documentation of Fish Harvest

AGENCY: NOAA National Marine Fisheries Service (NMFS), Commerce.

ACTION: Notice of information collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the collection to the Office of Management and Budget (OMB) for review.

DATES: To ensure consideration, comments regarding this proposed information collection must be received by August 9, 2021.

ADDRESSES: Interested persons are invited to submit written comments to Adrienne Thomas, NOAA PRA Officer, at adrienne.thomas@noaa.gov. Please reference OMB Control Number 0648-0551 in the subject line of your comments. All comments received are part of the public record and will generally be posted on www.regulations.gov without change. Do not submit confidential business information or otherwise sensitive or protected information.

FOR FURTHER INFORMATION CONTACT: Requests for additional information or specific questions related to collection activities should be directed to Adam Bailey, National Marine Fisheries Service, Southeast Regional Office, Sustainable Fisheries Division, 263 13th Ave. South, St. Petersburg, FL 33701, telephone: 727-824-5305, email: adam.bailey@noaa.gov.

SUPPLEMENTARY INFORMATION:

I. Abstract

The NMFS Southeast Regional Office proposes to extend without revision the information collection currently approved under OMB Control Number 0648-0365.

The NMFS Southeast Regional Office manages commercial fishing in Federal waters of the South Atlantic under the authority of the Magnuson-Stevens Fishery Conservation and Management Act (Magnuson-Stevens Act), 16 U.S.C. 1801 et seq.

Federally permitted seafood dealers who process or sell snapper-grouper species during seasonal fishery closures in the South Atlantic for those applicable species must maintain documentation, as specified in 50 CFR part 300 subpart K and 50 CFR 622.192(i), that such fish were harvested from areas other than state or Federal waters in the South Atlantic. The applicable snapper-grouper species are greater amberjack, gag, black grouper, red grouper, scamp, red hind, rock hind, yellowmouth grouper, yellowfin grouper, graysby, and coney. The documentation includes information on the vessel that harvested the fish, and where and when the fish were offloaded. NMFS requires the information for the enforcement of fishery regulations at 50 CFR 622, subpart I.

II. Method of Collection

The information is in the form of a paper affidavit, which a respondent creates and retains.

III. Data

OMB Control Number: 0648-0365.

Form Number(s): None.

Type of Review: Regular submission—extension of a current information collection.

Affected Public: Businesses or other for-profit organizations.

Estimated Number of Respondents: 414

Estimated Time per Response: 10 minutes.

Estimated Total Annual Burden Hours: 69.

Estimated Total Annual Cost to Public: $0 in recordkeeping and reporting costs.

Respondent's Obligation: Mandatory.

Legal Authority: Magnuson-Stevens Act, 16 U.S.C. 1801 et seq.

IV. Request for Comments

We are soliciting public comments to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-11999 Filed 6-7-21; 8:45 am]

BILLING CODE 3510-22-P